DEPARTMENT OF HOMELAND SECURITY

Transportation Security Administration

Intent To Request Approval From OMB of One New Public Collection of Information: Critical Facility Information of the Top 100 Most Critical Pipelines

AGENCY: Transportation Security Administration, DHS.

ACTION: Notice.

SUMMARY: The Transportation Security Administration (TSA) invites public comment on a new Information Collection Request (ICR) abstracted below that we will submit to the Office of Management and Budget (OMB) for approval in compliance with the Paperwork Reduction Act. The ICR describes the nature of the information collection and its expected burden. This collection provides TSA critical facility and annual product through-put information from owners or operators of the nation's largest pipelines, and is necessitated by the requirements set forth in the Implementing the Recommendations of the 9/11 Commission Act of 2007.

DATES: Send your comments by June 16, 2008.

ADDRESSES: Comments may be mailed or delivered to Joanna Johnson, Communications Branch, Business Management Office, Operational Process and Technology, TSA-32, Transportation Security Administration, 601 South 12th Street, Arlington, VA 22202-4220.

FOR FURTHER INFORMATION CONTACT: Joanna Johnson at the above address, or by telephone (571) 227-3651 or facsimile (703) 603-0822.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Purpose of Data Collection

Section 1557(b) of the Implementing the Recommendations of the 9/11 Commission Act of 2007, specifically tasks TSA to develop and implement a plan for inspecting certain critical facilities of the 100 most critical pipeline systems. See Pub. L. 110-53, 121 Stat. 266 at 475 (Aug. 3, 2007). The predominant criterion used to determine the nations top 100 pipeline systems in terms of criticality is the quantity of hazardous liquid or natural gas product that is transported through a pipeline in one year (annual through-put). Using annual through-put data from Federal and commercially available data as a preliminary determinant, TSA has selected the nation's top 125 pipeline systems from which annual through-put and critical facility information will be requested. TSA is requesting annual product through-put information from these top 125 pipeline systems in order to ensure that selection of the top 100 pipeline systems for inspection reflects the most recent throughput data and is as complete and accurate as possible.

Description of Data Collection

TSA is requesting information from the owners/operators of 125 systems. Within each of the system owner/operator companies, both the annual through-put and critical facility information has already been determined and is readily available to employees within the respective companies. System through-put is a figure already determined and frequently used by pipeline companies for various business, financial, and operations performance purposes. Per guidance set forth in the “Pipeline Security Circular September 4, 2002” (2002 Guidelines) issued by the U.S. Department of Transportation's Pipeline and Hazardous Material Safety Administration (PHMSA), formerly the Office of Pipeline Safety, pipeline companies had to determine critical facilities in accordance with guidance provided in that circular by December 31, 2003. Therefore, very little additional burden will be incurred by the pipeline companies in determining or producing this information. Consequently, the burden to pipeline owners/operators from to which information is requested lies only in compiling, reviewing, and transmitting the currently existing information to TSA. The time estimate breakdown is as follows: TSA will request the information from the nation's top 125 pipeline systems. TSA estimates that system owners and operators would spend a maximum of four hours per system to collect, review, and submit the information via email to TSA. Thus, TSA estimates the total annual burden to the public would be (125 owners or operators) × (4 hours per owner or operator) = 500 total hours per year.

Use and Handling of Results

TSA will use annual product through-put values as a significant factor in determining the most critical systems. The lists of a system's critical facilities and amplifying information are determined by the individual pipeline system owners or operators for their respective systems through their own site assessment process, and will be used by TSA to develop a plan for TSA to inspect the top 100 sites as required in section in 1557(b) of the Implementing Recommendation for the 911 Commission Act of 2007.

Both the request for information sent by TSA and the responses from subject pipeline system owners or operators will be conducted via electronic mail. To the extent that the information provided by owners or operators is Sensitive Security Information (SSI), it will be protected in accordance with procedures meeting the transmission, handling and storage requirements of SSI set forth in 49 CFR parts 15 and 1520.

Issued in Arlington, Virginia, on April 9, 2008.
Fran Lozito,
Director, Business Management Office, Operational Process and Technology.

[FR Doc. E8-8096 Filed 4-15-08; 8:45 am]

BILLING CODE 9110-05-P